DEPARTMENT OF THE INTERIOR

National Park Service

[NPS-WASO-NAGPRA-NPS0037232; PPWOCRADN0-PCU00RP14.R50000]

Notice of Inventory Completion: Cincinnati Museum Center, Cincinnati, OH

AGENCY: National Park Service, Interior.

ACTION: Notice.

SUMMARY: In accordance with the Native American Graves Protection and Repatriation Act (NAGPRA), the Cincinnati Museum Center (CMC) has completed an inventory of human remains and associated funerary objects and has determined that there is a cultural affiliation between the human remains and associated funerary objects and Indian Tribes or Native Hawaiian organizations in this notice. The human remains and associated funerary objects were removed from Butler and Hamilton Counties, OH.

DATES: Repatriation of the human remains and associated funerary objects in this notice may occur on or after February 12, 2024.

ADDRESSES: Tyler Swinney, Cincinnati Museum Center, 1301 Western Avenue, Cincinnati, OH 45203, telephone (513) 287-7000 Ext. 7287, email tswinney@cincymuseum.org.

SUPPLEMENTARY INFORMATION: This notice is published as part of the National Park Service's administrative responsibilities under NAGPRA. The determinations in this notice are the sole responsibility of the Cincinnati Museum Center. The National Park Service is not responsible for the determinations in this notice. Additional information on the determinations in this notice, including the results of consultation, can be found in the inventory or related records held by the Cincinnati Museum Center.

Description

Human remains representing, at minimum, five individuals were removed from site 33Bu297 (Watson Gravel) in Butler County, OH. The site was excavated by Bob Koth, most likely with assistance from Cincinnati Museum of Natural History archeology personnel, during the summer of 1973 and subsequently donated to the museum in October 1973. A Fort Ancient determination for these ancestral Native American human remains is based on the presence of associated diagnostic shell-tempered pottery. The 49 associated funerary objects are one small shell-tempered jar with three-line guilloche-incised neck, two copper-stained bi-pointed bone pins/needles, 17 eroded sheet copper earspool fragments, one shell disc bead, one tee-shaped bone awl, one shell-tempered decorated rim sherd, one freshwater mussel shell, one flint flake, one soil sample, six unburned animal bones, and 17 glacial pebbles.

Human remains representing, at minimum, three individuals were removed from site 33Ha124(38) (Perin Village). The site was surface collected by Cincinnati Museum of Natural History archeology personnel in 1975 following disturbances associated with a golf course expansion. A Late Woodland determination for these ancestral Native American human remains is based on proximity to nearby sites and comparison to diagnostic lithic artifacts recovered from the site during earlier 1960s surveys. The nine associated funerary objects are one polished proximal deer phalanx and eight unburned animal bones.

Human remains representing, at minimum, 23 individuals were removed from site 33Ha243(157) (Sayler Park Mound) in Hamilton County, Ohio. The site was excavated from 1955-1957 by Dr. James Kellar on behalf of the Cincinnati Museum of Natural History prior to housing development. An Early Woodland determination for these ancestral Native American human remains is based on mound dimensions, mortuary behavior (log tombs), and associated diagnostic objects. The 83 associated funerary objects are one bear effigy tubular pipe, one bird effigy pipe, one banded slate expanding center gorget, 13 copper bracelets, three copper bracelet fragments, one copper ring fragment, one unburned split bone awl, one antler billet, one sandstone slot abrader, five barrel-shaped marine shell beads, 10 lots of marine shell beads and fragments, 28 botanical/soil samples, one mending unburned deer humerus, 13 untyped chert bifaces, one limestone-tempered body sherd, one freshwater bivalve shell fragment, and one modified sedimentary stone.

Human remains representing, at minimum, 19 individuals were removed from site 33Ha368 (Luebkeman Mound) in Hamilton County, Ohio. The site was surface collected by Miami Purchase Association for Historic Preservation (MPAHP) archeologists in 1980 after the mound has been extensively looted and destroyed in 1978 and all MPAHP collections were subsequently transferred to the museum in 1990. An Early or Middle Woodland determination for these ancestral Native American human remains is based on mound dimensions and Ohio Archaeological Inventory documentation for the site. The 86 associated funerary objects include one lot of unburned animal bone, one lot of worked animal bone, one lot of saw-cut animal bone, one chert biface fragment, one lot of unmodified gastropods, one lot of unmodified freshwater bivalve shells, and one lot of worked freshwater bivalve shell fragments that were surface collected along with ancestral remains.

Human remains representing, at minimum, six individuals were removed from site 33Ha400 (Schomaker Site) in Hamilton County, Ohio. The site was surveyed by Miami Purchase Association for Historic Preservation (MPAHP) in 1978; excavated by amateur archeologists Mike Sedler and Tom Stumpf in 1984-1985; and, surveyed by the museum in 1985 during the Great Miami River Survey, which expanded to unit excavations in 1986-1987. A Fort Ancient determination for these ancestral Native American human remains is based on circular village orientation and wall-trench domestic architecture, as well as the presence of diagnostic shell-tempered ceramics and triangular arrow points. The 13 associated funerary objects are unburned animal bone; however, Tom Stumpf apparently sold a human effigy smoking pipe to Jan Sorgenfri before Mike Sedler donated ancestral Native American human remains in his collection to the museum in 1991. The current location of the human effigy smoking pipe is unknown.

Human remains representing, at minimum, 12 individuals were removed from site 33Ha586 (Driving Range Site) in Hamilton County, Ohio. The site was surveyed and excavated by Kemron Environmental Services in 1992-1993 as part of a Metropolitan Sewer District project and recovered cultural material was subsequently deposited at the museum in 1997. Late Archaic, Woodland, and Fort Ancient determinations for these ancestral Native American human remains are based on the presence of diagnostic shell- and rock-tempered ceramics, C14 dates, and diagnostic stone tools characteristic of the Late Archaic period in southwest Ohio. The 93 associated funerary objects include 17 soil samples, a suspected toolkit (consisting of two bifaces, 10 burned limestone pieces, one sandstone abrader, one retouched uniface, two mending turtle shell fragments, one Merom cluster projectile point, 16 retouched flakes, one McWhinney cluster projectile point, three chert flakes, and three unmodified freshwater bivalve shells with one associated soil sample), 28 unburned animal bones, one bone awl distal tip, one chert flake, one shell-tempered cord marked body sherd, and four burned animal bones.

Human remains representing, at minimum, two individuals were removed from site 33Ha588 (Martin Field Site) in Hamilton County, Ohio. The site was partially excavated by Gray and Pape, Inc., in 1993 as part of a Metropolitan Sewer District project and recovered cultural material was subsequently deposited at the museum in 1996 and accessioned in 2002. Although these ancestral Native American human remains were recovered from highly disturbed contexts, a Late Archaic period determination is probable based on diagnostic stone tools (McWhinney cluster projectile points) recovered from nearby midden deposits and features. The two associated funerary objects are one burned Ordovician trilobite fossil and one chert flake.

Human remains representing, at minimum, two individuals were removed from site 33Ha641 (Clear Creek Site) in Hamilton County, Ohio. Cincinnati Museum Center conducted salvage excavations at the site in 1994 after the site had been graded in preparation for recreational soccer fields and community park. A Fort Ancient determination for these ancestral Native American human remains is based on the presence of associated diagnostic shell-tempered pottery and triangular arrow points. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographic, historical, linguistic, and oral traditional.

Determinations

Pursuant to NAGPRA and its implementing regulations, and after consultation with the appropriate Indian Tribes and Native Hawaiian organizations, the Cincinnati Museum Center has determined that:

• The human remains described in this notice represent the physical remains of 72 individuals of Native American ancestry.

• The 335 objects described in this notice are reasonably believed to have been placed with or near individual human remains at the time of death or later as part of the death rite or ceremony.

• There is a relationship of shared group identity that can be reasonably traced between the human remains and associated funerary objects described in this notice and the Absentee Shawnee Tribe of Indians of Oklahoma; Eastern Shawnee Tribe of Oklahoma; Miami Tribe of Oklahoma; Ottawa Tribe of Oklahoma; Peoria Tribe of Indians of Oklahoma; Shawnee Tribe; The Osage Nation; and the Wyandotte Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 12, 2024. If competing requests for repatriation are received, the Cincinnati Museum Center must determine the most appropriate requestor prior to repatriation. Requests for joint repatriation of the human remains and associated funerary objects are considered a single request and not competing requests. The Cincinnati Museum Center is responsible for sending a copy of this notice to the Indian Tribes and Native Hawaiian organizations identified in this notice.

Authority: Native American Graves Protection and Repatriation Act, 25 U.S.C. 3003, and the implementing regulations, 43 CFR 10.9, 10.10, and 10.14.

Dated: January 5, 2024.
Melanie O'Brien,
Manager, National NAGPRA Program.

[FR Doc. 2024-00529 Filed 1-11-24; 8:45 am]

BILLING CODE 4312-52-P